DEPARTMENT OF ENERGY

Federal Energy Regulatory Commission

[Docket No. EC01-62-000, et al.]

UtiliCorp United Inc. and Aquila Energy Corporation, et al.; Electric Rate and Corporate Regulation Filings

February 2, 2001.

Take notice that the following filings have been made with the Commission:

1. UtiliCorp United Inc. and Aquila Energy Corporation

[Docket No. EC01-62-000]

Take notice that on January 30, 2001, UtiliCorp United Inc. (UtiliCorp) and Aquila Energy Corporation (Aquila), filed with the Federal Energy Regulatory Commission (Commission) an application for approval of disposition of jurisdictional facilities pursuant to section 203 of the Federal Power Act and section 33 of the Commission's regulations. The filing contemplates an initial public offering of Aquila common stock.

Comment date: February 21, 2001, in accordance with Standard Paragraph E at the end of this notice.

2. High Desert Power Project, LLC

[Docket No. EG01-108-000]

Take notice that on January 31, 2001 High Desert Power Project, LLC (High Desert) with its principal place of business at 111 Market Place, Suite 200, Baltimore, MD 21202, filed with the Federal Energy Regulatory Commission an application for determination of exempt wholesale generator status pursuant to part 365 of the Commission's regulations.

High Desert was previously determined to be an EWG in High Desert Power Project, LLC, 93 FERC 62,244 (2000). In its application, High Desert stated that it intended to own and operate a natural gas-fueled generating facility with a net power production of 750 MW in San Bernardino County, California (the Facility). The instant application modifies the original application to provide that the Facility will be owned by an unaffiliated entity, the High Desert Power Trust (the Trust). High Desert will lease the Facility from the Trust, and will have care, custody, and control of the Facility and sell all of the output from the Facility exclusively at wholesale. The Facility is expected to commence commercial operation in the year 2003.

Comment date: February 23, 2001, in accordance with Standard Paragraph E at the end of this notice. The Commission will limit its consideration of comments to those that concern the adequacy or accuracy of the application.

3. Central Hudson Gas & Electric Corporation

[Docket No. ER01-126-002]

Take notice that on January 30, 2001, Central Hudson Gas & Electric Corporation (Central Hudson) filed executed versions of the Interconnection Agreement (Roseton Plant), Service Agreement No. 260 under the New York Independent System Operator Open Access Transmission Tariff (NYISO OATT) and Interconnection Agreement (Danskammer Plant), Service Agreement No. 261 under the NYISO OATT (Interconnection Agreements). The executed Interconnection Agreements are submitted for substitution of the unexecuted versions of the Interconnection Agreements previously accepted for filing by the Commission in Docket No. ER01-126-000.

The service agreements will become effective on January 31, 2001.

Comment date: February 2, 2001, in accordance with Standard Paragraph E at the end of this notice.

4. Commonwealth Edison Company

[Docket No. ER01-628-002]

Take notice that on January 30, 2001 Commonwealth Edison Company (ComEd) submitted for filing a revision to the pagination of Schedule 4, Second Revised Sheet No. 124, of ComEd's Open Access Transmission Tariff (OATT). Due to an administrative oversight, Second Revised Sheet No. 124 was incorrectly paginated in the December 21, 2000 amended filing in Docket No. ER01-628-001. Accordingly, consistent with the regulations established in Order No. 614, Designation of Electric Rate Schedule Sheets, Order 614, FERC Stats. & Regs. & 31,096 (2000), ComEd submitted Second Revised Sheet No. 124 in accordance with Order 614.

Comment date: February 20, 2001, in accordance with Standard Paragraph E at the end of this notice.

5. Southern Company Services, Inc.

[Docket No. ER01-1089-000]

Take notice that on January 30, 2001, Southern Company Services, Inc., acting on behalf of Alabama Power Company (APC), filed an Interconnection Agreement (IA) by and between APC and Lone Oak Energy Center, L.L.C. (Lone Oak). The IA allows Lone Oak to interconnect its generating facility to be located in Lowndes County, Mississippi to APC's electric system.

An effective date of January 30, 2001 has been requested.

Comment date: February 20, 2001, in accordance with Standard Paragraph E at the end of this notice.

6. Central Maine Power Company

[Docket No. ER01-1090-000]

Take notice that on January 30, 2001, Central Maine Power Company (CMP), tendered for filing as an initial rate schedule pursuant to Section 35.12 of the Federal Energy Regulatory Commission's (the Commission) regulations, 18 CFR 35.12, an executed interconnection agreement (the Executed IA) and executed Form of Service Agreement for Non-Firm Local Point-to-Point Transmission Service (the Executed TSA) between CMP and Rocky Gorge Corporation (Rocky Gorge).

These agreements are intended to replace the Purchased Power Agreement between the parties, which expired on December 31, 2000. As such, CMP is requesting that the Executed IA and Executed TSA become effective January 1, 2001.

Copies of this filing have been served upon the Commission, the Maine Public Utilities Commission, and Rocky Gorge.

Comment date: February 20, 2001, in accordance with Standard Paragraph E at the end of this notice.

7. Metropolitan Edison Company

[Docket No. ER01-1091-000]

Take notice that on January 30, 2001, Metropolitan Edison Company (doing business as and referred to as GPU Energy) submitted for filing and acceptance an amendment (Amendment No. 1) to the Generation Facility Transmission Interconnection Agreement (Agreement) between GPU Energy and Calpine Construction Finance Company L.P. (Calpine). GPU Energy states that the purpose of Amendment No. 1 is to amend the Bonus/Liquidated Damages provisions described in Appendix E, Article VI, Section 2 of the Agreement.

GPU Energy requests waiver of the 60-day prior notice requirement, so that Amendment No. 1 may be accepted for filing and become effective as of January 4, 2001, as described in Amendment No. 1.

GPU Energy states that a copy of this filing has been served upon Calpine, PJM Interconnection, L.L.C., and regulators in the Commonwealth of Pennsylvania.

Comment date: February 20, 2001, in accordance with Standard Paragraph E at the end of this notice.

8. New England Power Company

[Docket No. ER01-1092-000]

Take notice that on January 30, 2001, New England Power Company, successor to Montaup Electric Company, tendered for filing a notice of cancellation of its Wholesale Market Tariff, Original Volume No. 8, effective December 31, 2000, together with a notice of termination, pursuant to its own terms, of its service agreement with PG&E Energy Trading—Power, L.P.

The service agreement was effective for the period January 1, 2000 through December 31, 2000.

Comment date: February 20, 2001, in accordance with Standard Paragraph E at the end of this notice.

9. American Transmission Company LLC

[Docket No. ER01-1093-000]

Take notice that on January 30, 2001, American Transmission Company LLC (ATCLLC) tendered for filing Short-Term Firm and Non-Firm Point-to-Point Transmission Service Agreements between ATCLLC and Consolidated Water Power Company.

ATCLLC requests an effective date of January 1, 2001.

Comment date: February 20, 2001, in accordance with Standard Paragraph E at the end of this notice.

10. American Transmission Company LLC

[Docket No. ER01-1094-000]

Take notice that on January 30, 2001, American Transmission Company (ATCLLC), tendered for filing a revision to its Open Access Transmission Tariff. The revision would allow self-supply and third party supply of Service Schedule 2 (Reactive Supply and Voltage Control from Generation Sources).

ATCLLC requests an effective date coincident with its commencement of transmission service (January 30, 2001) and waiver of the Commission's notice requirements in order to allow for the self-supply and third-party supply to take effect as soon as possible.

Copies of the filing have been served on all transmission service customers, the Illinois Commerce Commission, the Public Service Commission of Wisconsin and the Michigan Public Service Commission.

Comment date: February 20, 2001, in accordance with Standard Paragraph E at the end of this notice.

11. American Transmission Systems, Inc.

[Docket No. ER01-1095-000]

Take notice that on January 30, 2001, American Transmission Systems, Inc. filed a Service Agreement to provide Firm Point-to-Point Transmission Service for City of Cleveland, Department of Public Utilities, Division of Cleveland Public Power, the Transmission Customer. Services are being provided under the American Transmission Systems, Inc. Open Access Transmission Tariff submitted for filing by the Federal Energy Regulatory Commission in Docket No. ER99-2647-000.

The proposed effective date under the Service Agreement is January 1, 2001.

Comment date: February 20, 2001, in accordance with Standard Paragraph E at the end of this notice.

12. American Transmission Company LLC

[Docket No. ER01-1096-000]

Take notice that on January 30, 2001, American Transmission Company LLC (ATCLLC) tendered for filing Network Operating Agreements and a Network Integration Service Agreements for Central Wisconsin Electric Cooperative and Washington Island Electric Cooperative.

ATCLLC requests an effective date of January 1, 2001.

Comment date: February 20, 2001, in accordance with Standard Paragraph E at the end of this notice.

13. American Transmission Company LLC

[Docket No. ER01-1097-000]

Take notice that on January 30, 2001, American Transmission Company LLC (ATCLLC) tendered for filing Short-Term Firm and Non-Firm Point-to-Point Transmission Service Agreements between ATCLLC and Upper Peninsula Power Company, Gen-Sys Energy, Minnesota Power, Inc., Wisconsin Public Power Inc., TransAlta Energy Marketing, and Reliant Energy Services Inc.

ATCLLC requests an effective date of January 1, 2001.

Comment date: February 20, 2001, in accordance with Standard Paragraph E at the end of this notice.

14. Kentucky Utilities Company

[Docket No. ER01-1098-000]

Take notice that on January 30, 2001, Kentucky Utilities Company (KU) tendered for filing revisions to existing contracts between KU and its wholesale requirements customers.

KU requests an effective date of January 1, 2001 for these contracts.

Comment date: February 20, 2001, in accordance with Standard Paragraph E at the end of this notice.

15. Cleco Power LLC

[Docket No. ER01-1099-000]

Take notice that on January 30, 2001, Cleco Power LLC, tendered for filing its Notice of Succession pursuant to 18 CFR 35.16, effective December 31, 2000, in which it adopted, ratified, and made its own in every respect all applicable rate schedules, and supplements thereto, heretofore filed with the Commission by Cleco Utility Group Inc.

Effective December 31, 2000, Cleco Utility Group Inc. was converted from a corporate form to a limited liability company form. The conversion was effectuated through a merger with an entity formed solely for purposes of the conversion, namely Cleco Power LLC, with Cleco Power LLC as the surviving entity.

Comment date: February 20, 2001, in accordance with Standard Paragraph E at the end of this notice.

16. Alliant Energy Corporate Services, Inc.

[Docket No. ER01-1100-000]

Take notice that on January 30, 2001, Alliant Energy Corporate Services, Inc. tendered for filing executed Service Agreements establishing Adams Columbia Electric Cooperative, City of Stoughton, Rock County Electric Cooperative and Wisconsin Public Power, Inc. and unexecuted Service Agreements establishing Central Wisconsin Electric Cooperative, Kiel Electric Utility, Prairie du Sac Electric & Water Utility and Village of Pardeeville as ancillary service customers under the terms of the Alliant Energy Corporate Services, Inc. transmission tariff. Alliant Energy Corporate Services, Inc. also requests cancellation of the associated Network Service and Network Operating Agreements which are no longer required.

Alliant Energy Corporate Services, Inc. requests an effective date of January 1, 2001 and accordingly, seeks waiver of the Commission's notice requirements.

A copy of this filing has been served upon the Illinois Commerce Commission, the Minnesota Public Utilities Commission, the Iowa Department of Commerce, and the Public Service Commission of Wisconsin.

Comment date: February 20, 2001, in accordance with Standard Paragraph E at the end of this notice.

17. Southwest Power Pool, Inc.

[Docket No. ER01-1101-000]

Take notice that on January 30, 2001, Southwest Power Pool, Inc. (SPP) tendered for filing an executed service agreement for Firm Point-to-Point Transmission Service with Entergy Power Marketing Corporation (Entergy).

SPP seeks an effective date of January 1, 2001 for this service agreement.

A copy of this filing was served on Entergy.

Comment date: February 20, 2001, in accordance with Standard Paragraph E at the end of this notice.

18. JM Interconnection, L.L.C.

[Docket No. ER01-1102-000]

Take notice that on January 30, 2001, PJM Interconnection, L.L.C. (PJM), tendered for filing four executed service agreements for network integration transmission service, network integration transmission service under state required retail access programs, and point-to-point transmission service under the PJM Open Access Transmission Tariff. These agreements are between PJM and Pepco Energy Services, Inc.

Copies of this filing were served upon Pepco Energy Services, Inc. and the state commissions within the PJM control area.

Comment date: February 20, 2001, in accordance with Standard Paragraph E at the end of this notice.

19. Wisconsin Electric Power Company

[Docket No. ER01-1103-000]

Take notice that on January 30, 2001, Wisconsin Electric Power Company (Wisconsin Electric), tendered for filing an electric service agreement between the Wisconsin Energy Corporation Operating Companies (WEC Operating Companies) and Wisconsin Public Power Inc. (WPPI) under the WEC Operating Companies Joint Ancillary Services Tariff. (WEC Operating Companies FERC Electric Tariff, Original Volume No. 2).

Wisconsin Electric respectfully requests an effective date of January 1, 2001

Copies of the filing have been served on WPPI, the Michigan Public Service Commission, and the Public Service Commission of Wisconsin.

Comment date: February 20, 2001, in accordance with Standard Paragraph E at the end of this notice.

20. Wisconsin Electric Power Company

[Docket No. ER01-1104-000]

Take notice that on January 30, 2001, Wisconsin Electric Power Company (Wisconsin Electric), tendered for filing an electric service agreement between the Wisconsin Energy Corporation Operating Companies (WEC Operating Companies) and American Transmission Company LLC (ATCLLC) under the WEC Operating Companies Joint Ancillary Services Tariff. (WEC Operating Companies FERC Electric Tariff, Original Volume No. 2).

Wisconsin Electric respectfully requests an effective date of January 1, 2001.

Copies of the filing have been served on ATCLLC, the Michigan Public Service Commission, and the Public Service Commission of Wisconsin.

Comment date: February 20, 2001, in accordance with Standard Paragraph E at the end of this notice.

21. American Transmission Company LLC

[Docket No. ER01-1105-000]

Take notice that on January 30, 2001, American Transmission Company LLC (ATCLLC) tendered for filing an Interconnection Agreement with Consolidated Water Power Company.

ATCLLC requests an effective date of January 1, 2001.

Comment date: February 20, 2001, in accordance with Standard Paragraph E at the end of this notice.

22. American Transmission Company LLC

[Docket No. ER01-1106-000]

Take notice that on January 30, 2001, American Transmission Company LLC (ATCLLC) tendered for filing two Long-Term Firm Point-to-Point Service Agreements, which provide for the continuation of service to Wisconsin Public Power, Inc. and Consolidated Water Power Company under ATCLLC's OATT.

ATCLLC requests an effective date of January 1, 2001.

Comment date: February 20, 2001, in accordance with Standard Paragraph E at the end of this notice.

23. American Transmission Company LLC

[Docket No. ER01-1107-000]

Take notice that on January 30, 2001, American Transmission Company LLC (ATCLLC) tendered for filing a Network Integration Service Agreement for Dairyland Power Cooperative.

ATCLLC requests an effective date of January 1, 2001.

Comment date: February 20, 2001, in accordance with Standard Paragraph E at the end of this notice.

24. Citizens Communications Company

[Docket No. ER01-1108-000]

Take notice that on January 26, 2001, Citizens Communications Company (Citizens) filed a Supplemental Agreement with Select Energy, Inc., to sell a portion of Citizens' energy entitlement pursuant to the Firm Energy Contract between NEPOOL Phase II Participants and HydroQuebec, dated October 4, 1984, in addition to the portion sold in an agreement originally filed with the Commission on October 27, 2000 (FERC Electric Rate Schedule No. 42).

A copy of this filing was served on the service list in this docket, and on Select Energy, Inc. In addition, a copy of the rate schedule is available for inspection at the offices of Citizens' Vermont Electric Division during regular business hours.

Comment date: February 16, 2001, in accordance with Standard Paragraph E at the end of this notice.

25. Cinergy Services, Inc.

[Docket No. ER01-1109-000]

Take notice that on January 30, 2001, Cinergy Services, Inc. (Cinergy) tendered for filing a Market-Based Service Agreement under Cinergy's Market-Based Power Sales Standard Tariff-MB (the Tariff) entered into between Cinergy and Engage Energy America LLC (EEA).

Cinergy and EEA are requesting an effective date of January 15, 2001.

Comment date: February 20, 2001, in accordance with Standard Paragraph E at the end of this notice.

26. New England Power Pool

[Docket No. ER01-1110-000]

Take notice that on January 30, 2001, the New England Power Pool (NEPOOL) Participants Committee filed for acceptance materials to permit NEPOOL to expand its membership to include Dominion Nuclear Connecticut, Inc., Dominion Marketing I, Inc., and Dominion Marketing II, Inc. (collectively, the Dominion Entities), DTE Energy Trading, Inc. (DTE), and Energy Management, Inc. (EMI).

The Participants Committee requests an effective date of February 1, 2001 for commencement of participation in NEPOOL by the Dominion Entities, DTE, and EMI.

The Participants Committee states that copies of these materials were sent to the New England state governors and regulatory commissions and the Participants in NEPOOL.

Comment date: February 20, 2001, in accordance with Standard Paragraph E at the end of this notice.

27. Public Service Company of New Mexico

[Docket No. ER01-1111-000]

Take notice that on January 30, 2001, Public Service Company of New Mexico (PNM) submitted for filing a unilaterally executed service agreement for 15 MW of firm point-to-point transmission service with Texas-New Mexico Power Company (TNMP) under the terms of PNM's Open Access Transmission Tariff. PNM's filing is available for public inspection at its offices in Albuquerque, New Mexico.

Copies of the filing have been sent to TNMP and to the New Mexico Public Regulation Commission.

Comment date: February 20, 2001, in accordance with Standard Paragraph E at the end of this notice.

28. American Electric Power Service Corporation

[Docket No. ER01-1112-000]

Take notice that on January 30, 2001, the American Electric Power Service Corporation (AEPSC), tendered for filing executed Firm and Non-Firm Point-to-Point Transmission Service Agreements for Ameren Energy Marketing, and an amendment to Service Agreement No. 179, a network transmission service agreement executed by AMP-Ohio, Inc. All of these agreements are pursuant to the AEP Companies' Open Access Transmission Service Tariff (OATT) that has been designated as the Operating Companies of the American Electric Power System FERC Electric Tariff Second Revised Volume No. 6.

AEPSC requests waiver of notice to permit the Service Agreements to be made effective for service billed on and after January 1, 2001.

A copy of the filing was served upon the Parties and the state utility regulatory commissions of Arkansas, Indiana, Kentucky, Louisiana, Michigan, Ohio, Oklahoma, Tennessee, Texas, Virginia and West Virginia.

Comment date: February 20, 2001, in accordance with Standard Paragraph E at the end of this notice.

29. Alcoa Power Generating Inc.

[Docket No. ER01-1113-000]

Take notice that on January 30, 2001, pursuant to Section 35.15(a), 18 CFR 35.15(a) of the Commission's Regulations, Alcoa Power Generating Inc. (APGI) filed with the Federal Energy Regulatory Commission a Notice of Termination of its Yadkin Division's market-based rate tariff. APGI is the successor to Yadkin, Inc. APGI's market-based rate tariff will remain on file with the Commission.

APGI requests an effective date for this termination of 60 days from the date of this filing, or March 31, 2001.

Comment date: February 20, 2001, in accordance with Standard Paragraph E at the end of this notice.

30. WPS Westwood Generation, LLC

[Docket No. ER01-1114-000]

Take notice that on January 30, 2001, WPS Westwood Generation, LLC (Westwood), formerly CinCap VI, LLC (CinCap), filed a revised market-based rate tariff. Westwood also filed a Notice of Succession in Ownership for the interconnection agreement between CinCap and PPL Electric Utilities Corporation (PPL), PPL's First Revised Rate Schedule FERC No. 164.

Westwood requests waiver of the Commission's notice of filing requirements to allow the revised tariff to become effective January 31, 2001, the day after filing. Consistent with the Commission's regulations, Westwood requests that the Notice of Succession in Ownership become effective on January 1, 2001, the date of its name change.

Comment date: February 20, 2001, in accordance with Standard Paragraph E at the end of this notice.

31. PJM Interconnection, L.L.C.

[Docket No. ER01-1115-000]

Take notice that on January 30, 2001, PJM Interconnection, L.L.C. (PJM) submitted for filing an Unscheduled Transmission Services Agreement between PJM and the New York Independent System Operator, Inc. (NYISO) (UTS Agreement) and a Notice of Cancellation of the Interconnection Agreement Between The NYPP Group And The PJM Group designated as PJM Group Rate Schedule FERC No. 5 and also as NYPP Group Rate Schedule FERC No. 3.

PJM requests waiver of the Commission's 60-day notice requirement to permit an effective date of January 1, 2001 for the UTS Agreement and the cancellation of the Interconnection Agreement Between The NYPP Group And The PJM Group designated as the PJM Group Rate Schedule FERC No. 5 and also as NYPP Group Rate Schedule FERC No. 3.

Copies of this filing were served upon the NYISO, all PJM and NYISO members, and the state electric utility regulatory commissions within the PJM control area and the NYISO.

Comment date: February 20, 2001, in accordance with Standard Paragraph E at the end of this notice.

32. Wisconsin Public Service Corporation

[Docket No. ER01-1122-000]

Take notice that on January 30, 2001, Wisconsin Public Service Corporation (WPSC), tendered for filing a Notice of Cancellation of its transmission service agreement with Wisconsin Power & Light Company (WPL), Service Agreement No. 11, under WPSC's T-1 transmission tariff, FERC Electric Tariff, Original Volume No. 4.

WPSC requests a January 1, 2001 effective date.

Copies of the filing were served upon WPL, the Public Service Commission of Wisconsin, the Michigan Public Service Commission and the American Transmission Company, L.L.C.

Comment date: February 20, 2001, in accordance with Standard Paragraph E at the end of this notice.

33. SF Phosphates Limited Company, LLC

[Docket No. ER01-1121-000]

Take notice that on January 30, 2001, SF Phosphates Limited Company, a Utah limited liability company, petitioned the Commission for acceptance of SF Phosphates Rate Schedule FERC No. 1; the granting of certain blanket approvals, including the authority to sell electricity at market-based rates; waiver of certain Commission regulations; and waiver of notice requirement.

SF Phosphates intends to engage in wholesale electric energy and capacity sales. SF Phosphates is owned by JR Simplot Company and Farmland Industries, Limited and is engaged in the manufacture of phosphate-based fertilizers.

Comment date: February 20, 2001, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-3252 Filed 2-7-01; 8:45 am]

BILLING CODE 6717-01-P